DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Outcome Study of National Health Service Corps (NHSC) Chiropractor and Pharmacist Loan Repayment Demonstration Project—New

In 2002, Congress authorized a demonstration project to provide for the participation of chiropractors and pharmacists in the NHSC Loan Repayment Program. This study provides for an evaluation of the demonstration project to determine (1) The manner in which the demonstration project has affected access to primary care services, patient satisfaction, quality of care, and health care services provided for traditionally underserved populations, (2) how the participation of chiropractors and pharmacists in the Loan Repayment Program might affect the designation of health professional shortage areas, and (3) whether adding chiropractors and pharmacists as permanent members of the NHSC would be feasible and would enhance the effectiveness of the NHSC.

The burden estimate is as follows:

Respondents | Number of respondents | Number of responses/ respondent | Average burden per response (in hours) | Total burden (in hours)
Clinic Users | 2,000 | 1 | .25 | 500
Chiropractors & Pharmacists | 60 | 1 | .50 | 30
NHSC Site Administrative Personnel | 30 | 1 | .50 | 15
Total | 2,090 |  |  | 545

Written comments and recommendations concerning the proposed information collection should be sent within 30 days of this notice to: John Kraemer, Human Resources and Housing Branch, Office of Management and Budget, New Executive Office Building, Room 10235, Washington, DC 20503.

Dated: August 15, 2006.
Cheryl R. Dammons,
Director, Division of Policy Review and Coordination.

[FR Doc. E6-13847 Filed 8-21-06; 8:45 am]

BILLING CODE 4165-15-P